DEPARTMENT OF THE TREASURY

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Chairperson, Christopher Sterner, Deputy Chief Counsel (Operations)

2. Laurel Robinson, Deputy Division Counsel (Large Business & International)

3. Debra Moe, Deputy Division Counsel (Small Business/Self Employed)

4. Curtis G. Wilson, Associate Chief Counsel (Passthroughs and Special Industries)

5. Andrew Keyso, Associate Chief Counsel (Income Tax & Accounting)

This publication is required by 5 U.S.C. 4314(c)(4).

Dated: Ocrober 23, 2013.
William J. Wilkins,
Chief Counsel, Internal Revenue Service.

[FR Doc. 2013-26390 Filed 11-4-13; 8:45 am]

BILLING CODE 4830-01-P